ENVIRONMENTAL PROTECTION AGENCY

[FRL-7835-4]

Air Quality Criteria Document for Lead

AGENCY: Environmental Protection Agency.

ACTION: Notice; call for information.

SUMMARY: The U.S. Environmental Protection Agency (EPA) Office of Research and Development's National Center for Environmental Assessment (NCEA) is updating and revising, where appropriate, the Air Quality Criteria for Lead, EPA-600/8-83/028aF-dF, published in June 1986, and the associated supplement (EPA-600/8-89/049F) published in 1990. Interested parties are invited to assist the EPA in developing and refining the scientific information base for updating the Air Quality Criteria for Lead by submitting research studies that have been published, accepted for publication, or presented at a public scientific meeting.

DATES: The sixty-day period for submission of this information begins November 15, 2004, and ends January 15, 2005.

ADDRESSES: Information may be submitted electronically, by mail, by facsimile, or by hand delivery/courier. Please follow the detailed instructions as provided in the section of this notice entitled SUPPLEMENTARY INFORMATION.

FOR FURTHER INFORMATION CONTACT: For details on the period for submission of research information from the public, contact the Office of Environmental Information Docket; telephone: 202-566-1752; facsimile: 202-566-1753; or e-mail: ORD.Docket@epa.gov.

For technical information, contact Robert Elias, Ph.D., NCEA, facsimile: 919-541-1818 or e-mail: elias.robert@epa.gov.

SUPPLEMENTARY INFORMATION: Under the Clean Air Act, lead is one of six principal (or “criteria”) pollutants for which EPA has established National Ambient Air Quality Standards (NAAQS). Periodically, EPA reviews the scientific basis for these standards by preparing an Air Quality Criteria Document (AQCD). The AQCD is the scientific basis for the additional technical and policy assessments that form the basis for EPA decisions on the adequacy of a current NAAQS and the appropriateness of new or revised standards. One of the first steps in this process is to announce the beginning of this periodic NAAQS review and the start of the development of the AQCD, by requesting that the public submit scientific literature that they want to bring to the attention of the Agency as it begins this process. The Clean Air Scientific Advisory Committee (CASAC), a review committee mandated by the Clean Air Act and part of the EPA's Science Advisory Board (SAB), is charged with independent expert scientific review of EPA's draft AQCDs. As the process proceeds, the public will have opportunities to review and comment on the draft lead AQCD. These opportunities will also be announced in the Federal Register.

Since completion of the 1986 Air Quality Criteria for Lead and the associated 1990 Lead Supplement, EPA has continued to follow the scientific research on lead exposure and its effects on health and the environment and has gathered some appropriate studies. The Agency is interested in additional new information, particularly concerning the effects of lead on humans and on laboratory animals, as well as on vegetation, both in agricultural ecosystems (crops) and in natural ecosystems. EPA also seeks recent information in other areas of lead research such as chemistry and physics, sources and emissions, analytical methodology, transport and transformation in the environment, and ambient concentrations. This and other selected literature relevant to a review of the NAAQS for lead will be assessed in the forthcoming revised Lead AQCD. One or more drafts of the lead AQCD are expected to be made available by EPA for public comment and CASAC review during 2005 and/or possibly 2006. In addition, other opportunities for submission of new peer-reviewed, published (or in-press) papers will be possible as part of public comment on the draft documents that will be reviewed by CASAC.

EPA has established an official public docket for information pertaining to the revision of the lead criteria document, Docket ID No. ORD-2004-0018. The official public docket is the collection of materials, excluding Confidential Business Information (CBI) or other information whose disclosure is restricted by statute, that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the official public docket is available through EPA's electronic public docket and comment system, E-Docket. You may use E-Docket at http://www.epa.gov/edocket/ to submit or view public comments, to access the index listing of the contents of the official public docket, and to view those documents in the public docket that are available electronically. Once in the system, select “search,” then key in the appropriate docket identification number.

Certain types of information will not be placed in E-Docket. Information claimed as CBI and other information with disclosure restricted by statute, also not included in the official public docket, will not be available for public viewing in E-Docket. Copyrighted material also will not be placed in E-Docket but will be referenced there and available as printed material in the official public docket.

Persons submitting information should note that EPA's policy makes the information available as received and at no charge for public viewing at the EPA Docket Center or in E-Docket. This policy applies to information submitted electronically or in paper, except where restricted by copyright, CBI, or statute.

Unless restricted as above, information submitted on computer disks that are mailed or delivered to the docket will be transferred to E-Docket. Physical objects will be photographed, where practical, and the photograph will be placed in E-Docket along with a brief description written by the docket staff.

You may submit information electronically, by mail, by facsimile, or by hand delivery/courier. To ensure proper receipt by EPA, include the appropriate docket identification number with your submission. Please adhere to the specified submitting period. Information received or submitted past the close date will be marked “late” and may only be considered if time permits.

If you submit information electronically, EPA recommends that you include your name, mailing address, and an e-mail address or other details for contacting you. Also include these contact details on the outside of any disk or CD ROM you submit, and in any cover letter accompanying the disk or CD ROM. This ensures that you can be identified as the person submitting the information and allows EPA to contact you in case the Agency cannot read what you submit due to technical difficulties or needs to clarify issues raised by what you submit. If EPA cannot read what you submit due to technical difficulties and cannot contact you for clarification, it may delay or prohibit the Agency's consideration of the information.

To access EPA's electronic public docket from the EPA Internet Home Page, select “Information Sources,” “Dockets,” and “EPA Dockets.” Once in the system, select “search,” and key in Docket ID No. ORD-2004-0018. The system is an “anonymous access” system, which means EPA will not know your identity, e-mail address, or other contact details if you are merely viewing the information.

Information may be sent by electronic mail (e-mail) to ORD.Docket@epa.gov, Attention Docket ID No. ORD-2004-0018. In contrast to EPA's electronic public docket, EPA's e-mail system is not an “anonymous access” system. If you send an e-mail directly to the docket without going through EPA's E-Docket, EPA's e-mail system automatically captures your e-mail address, and it becomes part of the information in the official public docket and is made available in EPA's E-Docket.

You may submit information on a disk or CD ROM mailed to the OEI Docket mailing address. Files will be accepted in WordPerfect, Word, or ASCII file format. Avoid the use of special characters and any form of encryption.

If you provide information in writing, please submit one unbound original, with pages numbered consecutively, and three copies. For attachments, provide an index, number pages consecutively with the main text, and submit an unbound original and three copies.

Dated: November 3, 2004.
John Vandenberg,
Acting Director, National Center for Environmental Assessment.

[FR Doc. 04-24924 Filed 11-8-04; 8:45 am]

BILLING CODE 6560-50-P